DEPARTMENT OF HEALTH AND HUMAN SERVICES

Centers for Disease Control and Prevention

Advisory Committee for Injury Prevention and Control: Meeting

In accordance with section 10(a)(2) of the Federal Advisory Committee Act (Pub. L. 92-463), the Centers for Disease Control and Prevention (CDC) announces the following committee meeting.

Name: Advisory Committee for Injury Prevention and Control (ACIPC).

Times and Dates: 1:30 p.m.-4:30 p.m., March 21, 2000. 8:30 a.m.-3:15 p.m., March 22, 2000.

Place: Radisson Hotel Atlanta—Northlake, 4156 LaVista Road, Atlanta, Georgia 30084.

Status: Open to the public, limited only by the space available.

Purpose: The Committee advises and makes recommendations to the Secretary, the Assistant Secretary for Health, and the Director, CDC, regarding feasible goals for the prevention and control of injury. The Committee makes recommendations regarding policies, strategies, objectives, and priorities, and reviews progress toward injury prevention and control. The Committee provides advice on the appropriate balance of intramural and extramural research, and also provides guidance on the needs, structure, progress and performance of intramural programs, and on extramural scientific program matters. The Committee provides second-level scientific and programmatic review for applications for research grants, cooperative agreements, and training grants related to injury control and violence prevention, and recommends approval of projects that merit further consideration for funding support. The Committee also recommends areas of research to be supported by contracts and cooperative agreements and provides concept review of program proposals and announcements.

Matters To Be Discussed: The purpose of the March 21 meeting is for the Science and Program Review Work Group (SPRWG) to review program oversight issues which include discussion of (1) current/future program Injury Control Research Center program activities; (2) review of violence against women and youth violence request for applications; (3) overview of external projects from NCIPC divisions; (4) site visit for trauma center evaluation project; (5) 1999 work-in progress monitoring workshops summary; and (6) NCIPC research priorities.

At the March 22 meeting of the full Committee, following the NCIPC Acting Director's update on NCIPC, discussions will include (1) NCIPC's Division of Acute Care, Rehabilitation Research, and Disability Prevention updates on key activities in spinal cord injury, traumatic brain injury, and poison control centers; (2) reports from the March 21 meetings of the Subcommittee on Family and Intimate Violence Prevention and SPRWG; (3) follow up report on NCIPC research priorities; and (4) update on the SafeUSA Partnership.

Agenda items are subject to change as priorities dictate.

Contact Person for More Information: Mr. Thomas E. Blakeney, Acting Executive Secretary, ACIPC, NCIPC, CDC, 4770 Buford Highway, NE, M/S K61, Atlanta, Georgia 30341-3724, telephone 770/488-1481.

The Director, Management Analysis and Services Office, has been delegated the authority to sign Federal Register notices pertaining to announcements of meetings and other committee management activities, for both the Centers for Disease Control and Prevention and the Agency for Toxic Substances and Disease Registry.

Dated: February 25, 2000.
Carolyn J. Russell,
Director, Management Analysis and Services Office, Centers for Disease Control and Prevention.

[FR Doc. 00-4860 Filed 2-29-00; 8:45 am]

BILLING CODE 4163-18-P